DEPARTMENT OF COMMERCE

International Trade Administration

[A-570-836]

Glycine From the People's Republic of China: Notice of Court Decision Not in Harmony With Final Results of the Antidumping Duty Administrative Review; 2011-2012

AGENCY: Enforcement and Compliance, International Trade Administration, Department of Commerce.

DATES: Effective October 21, 2016.

SUMMARY: The Department of Commerce (the Department) is notifying the public that the Court of International Trade's (the Court's) final judgment in this case is not in harmony with the Department's final results and is therefore rescinding the antidumping administrative review with respect to Baoding Mantong Fine Chemistry Co. Ltd. (Baoding Mantong).

FOR FURTHER INFORMATION CONTACT: Madeline Heeren or Brian Davis, AD/CVD Operations, Office VI, Enforcement and Compliance, International Trade Administration, U.S. Department of Commerce, 14th Street and Constitution Avenue NW., Washington, DC 20230; telephone: (202) 482-9179 or (202) 482-7924, respectively.

SUPPLEMENTARY INFORMATION:

Background

On April 8, 2013, the Department published the Final Results,¹ in which it found Baoding Mantong failed to demonstrate that extraordinary circumstances prevented it from filing a timely withdrawal of review request pursuant to the Department's interpretation of 19 CFR 351.213(d)(1).² On November 3, 2015, the Court remanded the Final Results to the Department holding that the Department overlooked the true purpose of the 19 CFR 351.213(d)(1), which was to allow parties an opportunity to know the results of the preceding review.³ In the Remand Redetermination, the Department, under protest, stated that it intended to extend the deadline for withdrawing a request for an administrative review, accept Baoding Mantong's untimely withdrawal request, and rescind the review with respect to Baoding Mantong.⁴ On October 11, 2016, the Court affirmed the Remand Redetermination.⁵

¹ See Glycine from the People's Republic of China: Final Results of Antidumping Duty Administrative Review; 2011-2012, 78 FR 20891 (April 8, 2013) (Final Results).

² See Final Results and accompanying Issues and Decision Memorandum.

³ See Glycine & More v. United States, Court No. 13-00167, Slip Op. 15-124 (Ct. Int'l Trade Nov. 3, 2015).

⁴ See Final Results of Remand Redetermination Pursuant to Glycine & More v. United States, Court No. 13-00167, Slip Op. 15-124 (Ct. Int'l Trade Nov. 3, 2015), dated February 2, 2016 (Remand Redetermination).

⁵ See Glycine & More, Inc., v. United States, Court No. 13-00167, Slip Op. 16-96 (Ct. Int'l Trade Oct. 11, 2016).

Timken Notice

In its decision in Timken Co. v. United States, 893 F.2d 337 (Fed. Cir. 1990) (Timken), as clarified by Diamond Sawblades Mfrs. Coalition v. United States, 626 F.3d 1374 (Fed. Cir. 2010) (Diamond Sawblades), the United States Court of Appeals for the Federal Circuit held that, pursuant to section 516A(e) of the Tariff Act of 1930, as amended (the Act), the Department must publish a notice of a court decision that is not “in harmony” with a Department determination and must suspend liquidation of entries pending a “conclusive” court decision. The Court's October 11, 2016 final judgment affirming the Remand Redetermination constituted the Court's final decision which is not in harmony with the Final Results. This notice is published in fulfillment of the publication requirements of Timken. Accordingly, the Department will continue the suspension of liquidation of the subject merchandise pending a final and conclusive court decision.

Amended Final Results of Review

Because there is now a final court decision, the Department is amending the Final Results by accepting Baoding Mantong's untimely withdrawal request, and rescinding the review with respect to Baoding Mantong.

In the event the Court's ruling is not appealed or, if appealed, upheld by a final and conclusive court decision, the Department will instruct the U.S. Customs and Border Protection to assess antidumping duties on unliquidated entries of subject merchandise based on the rescission of the review with respect to Baoding Mantong.

Cash Deposit Requirements

Since the Final Results, the Department established a new cash deposit rate for Baoding Mantong. Therefore, the cash deposit rate for Baoding Mantong will remain the company-specific rate established for the subsequent and most recent period for a completed administrative review during which Baoding Mantong was reviewed.⁶

⁶ See Glycine From the People's Republic of China: Final Results of Antidumping Duty Administrative Review and Partial Rescission of Antidumping Duty Administrative Review; 2013-2014, 80 FR 62026, 62028 (Oct. 15, 2015).

Notification to Interested Parties

This notice is issued and published in accordance with sections 516A(e)(1), 751(a)(1), and 777(i)(1) of the Act.

Dated: November 22, 2016.
Paul Piquado,
Assistant Secretary for Enforcement and Compliance.

[FR Doc. 2016-28504 Filed 11-25-16; 8:45 am]

BILLING CODE 3510-DS-P